DEPARTMENT OF COMMERCE

International Trade Administration

The Manufacturing Council: Meeting of the Manufacturing Council

AGENCY: International Trade Administration, U.S. Department of Commerce.

ACTION: Notice of public meeting.

SUMMARY: The Manufacturing Council will hold a full Council meeting to discuss topics related to the state of manufacturing. The Manufacturing Council is a Secretarial Board at the Department of Commerce, established to ensure regular communication between Government and the manufacturing sector. This will be the fifth meeting of The Manufacturing Council. For information about the Council, please visit its Web site at: http://www.manufacturing.gov/council.

DATES: March 22, 2006.

Time: 10:30 a.m.

ADDRESSES: Donald E. Stephens Convention Center, Rosemont, Illinois. This program is physically accessible to people with disabilities. Requests for sign language interpretation or other auxiliary aids should be submitted no later than March 15, 2006, to The Manufacturing Council, Room 4043, Washington, DC 20230.

FOR FURTHER INFORMATION CONTACT: The Manufacturing Council Executive Secretariat, Room 4043, Washington, DC 20230 (Phone: 202-482-1369). Interested parties are encouraged to visit The Manufacturing Council Web site (http://www.manufacturing.gov/council) for the most up-to-date information about the meeting agenda and the Council. Please RSVP to the Executive Secretariat or sam.giller@mail.doc.gov if you plan to attend. This meeting is open to the public, however for entry to Convention Center, advance notification is requested.

Dated: February 24, 2006.
Sam Giller,
Executive Secretary, The Manufacturing Council.

[FR Doc. E6-2946 Filed 3-1-06; 8:45 am]

BILLING CODE 3510-DR-P